NATIONAL SCIENCE FOUNDATION

Sunshine Act Meeting

The National Science Board's Committee on Strategy hereby gives notice of the scheduling of a teleconference for the transaction of National Science Board business pursuant to the National Science Foundation Act and the Government in the Sunshine Act.

TIME AND DATE: Friday, July 15, 2022, from 11:00 a.m.-1:00 p.m. EDT.

PLACE: This meeting will be held by teleconference through the National Science Foundation.

STATUS: Closed.

MATTERS TO BE CONSIDERED: The agenda of the teleconference is: Committee Chair's introductory remarks; remarks by the NSF Director; discussion of NSF investments to strengthen established NSF; updates on missing millions efforts and TIP; discussion of strategies to deliver benefits in the context of the FY 2024 and beyond budget development process; and the NSF—NSB budget engagement plan.

CONTACT PERSON FOR MORE INFORMATION: Point of contact for this meeting is: Kathy Jacquart, kjaquart@nsf.gov (703) 292-7000. Meeting information and updates may be found at www.nsf.gov/nsb.

Chris Blair,
Executive Assistant to the National Science Board Office.

[FR Doc. 2022-15008 Filed 7-11-22; 11:15 am]

BILLING CODE 7555-01-P